DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before March 12, 2020.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC.

This notice of receipt of applications for special permit is published in accordance with part 107 of the Federal hazardous materials transportation law (49 U.S.C. 5117(b); 49 CFR 1.53(b)).

Issued in Washington, DC, on February 6, 2020.
Donald P. Burger,
Chief, General Approvals and Permits Branch.

Special Permits Data
Application No. | Applicant | Regulation(s) affected | Nature of the special permits thereof
20989-N | Argotec Srl | 173.185(e)(5) | To authorize the transportation in commerce of lithium ion batteries which have not been tested. (modes 1, 4).
20993-N | United States Dept. Of Energy | 173.467 | To authorize the transportation in commerce of class 7 material in alternative packaging.
20994-N | Sk Innovation Co. Ltd | 172.101(j) | To authorize the transportation in commerce of lithium ion batteries that exceed 35 kg by cargo-only aircraft. (mode 4).
20996-N | Norfolk Southern Railway Company | 174.85(a) | To authorize the transportation in commerce of hazardous materials by rail without buffer cars between placarded cars and engines. (mode 2).
20998-N | Daicel Safety Systems Americas, Inc | 173.301(a)(1), 173.302(a), 178.65(c)(3) | To authorize the manufacture, mark, sale, and use of non-DOT specification cylinders for use as components of automobile safety systems. (modes 1, 2, 3, 4, 5).
20999-N | U.S. Cryogenics, Inc | 172.203(a), 172.301(c), 180.211(c)(2)(i) | To authorized the transportation in commerce of repaired pressure receptacles that have not been pressure tested in accordance with the specifications under which they were originally manufactured. (modes 1, 2, 3, 4, 5).

[FR Doc. 2020-02701 Filed 2-10-20; 8:45 am]

BILLING CODE 49090-60-P